DEPARTMENT OF ENERGY

Federal Energy Regulatory Commission

Notice of Commission Staff Attendance

The Federal Energy Regulatory Commission (Commission) hereby gives notice that members of the Commission's staff may attend the following meeting related to the transmission planning activities of Public Service Company of Colorado, Tucson Electric Power Company, UNS Electric, Inc., Public Service Company of New Mexico, Arizona Public Service Company, El Paso Electric Company, Black Hills Power, Inc., Black Hills Colorado Electric Utility Company, LP, Cheyenne Light, Fuel, & Power Company, Nevada Power Company, and Sierra Pacific Power Company:

WestConnect Regional Planning Process Stakeholder Meeting

February 19, 2015, 12:30 p.m.-4:00 p.m. (PST)

The above-referenced meeting will be held at: NV Energy, 7155 Lindell Road, Las Vegas, NV 89118.

The above-referenced meeting will be via web conference and teleconference.

The above-referenced meeting is open to stakeholders.

Further information may be found at http://www.westconnect.com/filestorage/02-19-15_WestConnect_Stakeholder_Meeting_Agenda.pdf.

The discussions at the meeting described above may address matters at issue in the following proceedings:

Docket No. ER13-75, Public Service Company of Colorado

Docket No. ER13-1469

Docket No. ER15-416

Docket No. ER13-77, Tucson Electric Power Company

Docket No. ER13-1461

Docket No. ER15-433

Docket No. ER13-78, UNS Electric, Inc.

Docket No. ER13-1462

Docket No. ER15-434

Docket No. ER13-79, Public Service Company of New Mexico

Docket No. ER13-1447

Docket No. ER15-413

Docket No. ER13-82, Arizona Public Service Company

Docket No. ER13-1450

Docket No. ER15-411

Docket No. ER13-91, El Paso Electric Company

Docket No. ER13-1465

Docket No. ER15-426

Docket No. ER13-96, Black Hills Power, Inc.

Docket No. ER13-1472

Docket No. ER15-431

Docket No. ER13-97, Black Hills Colorado Electric Utility Company, LP

Docket No. ER13-1474

Docket No. ER15-430

Docket No. ER13-120, Cheyenne Light, Fuel, & Power Company

Docket No. ER13-1471

Docket No. ER15-432

Docket No. ER15-428, Nevada Power Company and Sierra Pacific Power Company

Docket No. ER13-1466

Docket No. ER15-423

Docket No. ER15-424

For more information, contact Gabe Aguilera, Office of Energy Market Regulation, Federal Energy Regulatory Commission at (202) 502-8489 or Gabriel.Aguilera@ferc.gov.

Dated: February 12, 2015.
Nathaniel J. Davis, Sr.,
Deputy Secretary.

[FR Doc. 2015-03443 Filed 2-18-15; 8:45 am]

BILLING CODE 6717-01-P